DEPARTMENT OF AGRICULTURE

Agricultural Marketing Service

9 CFR Part 201

[Doc. No. AMS-LRRS-22-0011]

Nomenclature Changes; Technical Amendment

AGENCY: Agricultural Marketing Service, USDA.

ACTION: Final rule; technical amendment.

SUMMARY: This rule removes the undesignated center headings in a part of the Code of Federal Regulations administered by the Agricultural Marketing Service (AMS). Further, this rule organizes the part's sections into subparts and adds designated subpart headings. This action is intended to make the part more readable and easier to amend in the future. Finally, these revisions are made to conform to Office of the Federal Register formatting requirements.

DATES: Effective March 3, 2022.

FOR FURTHER INFORMATION CONTACT: Laurel L. May, Regulatory Analyst, Agricultural Marketing Service, USDA; phone: (202) 384-2975 or email: Laurel.May@usda.gov.

SUPPLEMENTARY INFORMATION: This final rule makes technical amendments to regulations in the Code of Federal Regulations (CFR). Part 201 of Title 9 of the CFR contains regulations that effectuate the Packers and Stockyards Act, 1921 (7 U.S.C. 181 et seq.). 9 CFR 201 is divided into several sections that are currently grouped under undesignated center headings. AMS has determined that reorganizing the part into subparts and adding designated subpart headings will make the part more readable and facilitate future amendatory actions. Further, AMS is revising headings in part 201 to conform with nomenclature guidelines established by the Office of the Federal Register. This rule falls within a category of regulatory actions that the Office of Management and Budget exempted from Executive Order 12866 review.

The notice and comment requirements in the Administrative Procedure Act (APA) (5 U.S.C. 553) apply to rules as defined in 5 U.S.C. 551 (“the whole or a part of an agency statement of general or particular applicability and future effect designed to implement, interpret, or prescribe law or policy or describing the organization, procedure, or practice requirements of an agency and includes the approval or prescription for the future of rates, wages, corporate or financial structures or reorganizations thereof, prices, facilities, appliances, services or allowances therefor or of valuations, costs, or accounting, or practices bearing on any of the foregoing”). This final rule is limited to reorganizing Part 201 into subparts and adding designated subpart headings. It does not create new or amend existing requirements or interpretations. Thus, AMS has determined that this final rule is not a rule subject to the notice and comment requirements of 5 U.S.C. 553. Additionally, to the extent that this final rule is subject to this section, AMS has determined that there is good cause for making this technical amendment final without prior proposal and opportunity for comment because the revisions are not substantive and will have no impact on the regulatory requirements in the affected part. AMS has determined that public comment on such administrative changes is unnecessary and that there is good cause under the APA for proceeding with a final rule.

Further, because a notice of proposed rulemaking and opportunity for public comment are not required to be given for this rule under the APA or any other law, the analytical requirements of the Regulatory Flexibility Act (5 U.S.C. 601 et seq.) are not applicable. Accordingly, this rule is issued in final form. Although there is no formal comment period, public comments on this rule are welcome on an ongoing basis. Comments should be submitted to the address or email under the FOR FURTHER INFORMATION CONTACT caption.

List of Subjects in 9 CFR Part 201

Confidential business information, Reporting and recordkeeping requirements, Stockyards, Surety bonds, Trade practices.

For the reasons set forth in the preamble, AMS amends 9 CFR part 201 as follows:

PART 201—ADMINISTERING THE PACKERS AND STOCKYARDS ACT

1. The authority citation for part 201 continues to read as follows:

Authority: 7 U.S.C. 181-229c.

2. Revise the heading for part 201 to read as set forth above.

3. Remove the undesignated center heading before § 201.1 and add a heading for subpart A, consisting of §§ 201.1 through 201.2, in its place to read as follows:

Subpart A—Definitions

4. Remove the undesignated center heading before § 201.3 and add a heading for subpart B, consisting of §§ 201.3 through 201.4, in its place to read as follows:

Subpart B—Administration

5. Remove the undesignated center heading before § 201.5 and add a heading for subpart C, consisting of § 201.5, in its place to read as follows:

Subpart C—Applicability of Industry Rules

6. Remove the undesignated center heading before § 201.10 and add a heading for subpart D, consisting of §§ 201.10 through 201.11, in its place to read as follows:

Subpart D—Registration

7. Remove the undesignated center heading before § 201.17 and add a heading for subpart E, consisting of § 201.17, in its place to read as follows:

Subpart E—Schedules of Rates and Charges

8. Remove the undesignated center heading before § 201.27 and add a heading for subpart F, consisting of §§ 201.27 through 201.28, in its place to read as follows:

Subpart F—Bonding

9. Remove the undesignated center heading before § 201.29 and add a heading for subpart G, consisting of §§ 201.29 through 201.34, in its place to read as follows:

Subpart G—Market Agency, Dealer, and Packer Bonds

10. Remove the undesignated center heading before § 201.39 and add a heading for subpart H, consisting of §§ 201.39 through 201.42, in its place to read as follows:

Subpart H—Proceeds of Sale

11. Remove the undesignated center heading before § 201.43 and add a heading for subpart I, consisting of §§ 201.43 through 201.49, in its place to read as follows:

Subpart I—Accounts and Records

12. Remove the undesignated center heading before § 201.53 and add a heading for subpart J, consisting of §§ 201.53 through 201.70, in its place to read as follows:

Subpart J—Trade Practices

13. Remove the undesignated center heading before § 201.71 and add a heading for subpart K, consisting of §§ 201.71 through 201.82, in its place to read as follows:

Subpart K—Services

14. Remove the undesignated center heading before § 201.86 and add a heading for subpart L, consisting of §§ 201.86, in its place to read as follows:

Subpart L—Inspection of Brands

15. Remove the undesignated center heading before § 201.94 and add a heading for subpart M, consisting of §§ 201.94 through 201.99, in its place to read as follows:

Subpart M—General

16. Remove the undesignated center heading before § 201.100 and add a heading for subpart N, consisting of §§ 201.100 through 201.218, in its place to read as follows:

Subpart N—Packers and Live Poultry Dealers

Erin Morris,
Associate Administrator, Agricultural Marketing Service.

[FR Doc. 2022-04172 Filed 3-2-22; 8:45 am]

BILLING CODE P